DEPARTMENT OF HOMELAND SECURITY

Transportation Security Administration

New Agency Information Collection Activity Under OMB Review: Military Severely Injured Joint Support Operations Center (MSIJSOC) and Travel Protocol Office (TPO) Programs

AGENCY: Transportation Security Administration, DHS.

ACTION: 30-Day notice.

SUMMARY: This notice announces that the Transportation Security Administration (TSA) has forwarded the new Information Collection Request (ICR) abstracted below to the Office of Management and Budget (OMB) for review and approval under the Paperwork Reduction Act (PRA). The ICR describes the nature of the information collection and its expected burden. On July 18, 2017, TSA published a Federal Register notice, with a 60-day comment period soliciting comments, of the following collection of information. The collection involves the submission of travel information to TSA to provide wounded warriors, severely injured military personnel, and certain other travelers with assistance through the airport security screening process.

DATES: Send your comments by December 1, 2017. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be made available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Military Severely Injured Joint Support Operations Center (MSIJSOC) and Travel Protocol Office (TPO) Programs.

Type of Request: New collection.

OMB Control Number: 1652-XXXX.

Form(s): TSA Form 412, Travel Support Request and TSA Form 417, Screening Assistance Request.

Affected Public: Wounded warriors, severely injured military personnel, foreign dignitaries, accredited Ambassadors to the United States, and other travelers requiring an escort through the airport security screening process.

Abstract: Under the Aviation and Transportation Security Act (ATSA), TSA is responsible for security in all modes of transportation including screening operations for passenger air transportation and for carrying out such other duties relating to the transportation security as it considers appropriate. See sec. 101(a) of ATSA (Pub. L. 107-71, 115 Stat. 597 (November 19, 2001) (codified at 49 U.S.C. 114). The Helping Heroes Fly Act directs TSA to develop and implement a process to support and facilitate the ease of travel and, to the extent possible, provide expedited passenger screening services for severely injured or disabled members of the Armed Forces and severely injured or disabled veterans through passenger screening. See sec. 2 of the Helping Heroes Fly Act (Pub. L. 113-27, 127 Stat. 503 (Aug. 9, 2013) (codified at 49 U.S.C. 44927). Based on these requirements, TSA established the MSIJSOC and TPO programs to support and facilitate the movement of wounded warriors, severely injured military personnel, veterans, and other travelers requiring an escort through the airport security screening process.

To implement the MSIJSCO and TPO programs, TSA must collect the passenger's name, flight itinerary (scheduled flight departure and arrival information), and contact information to successfully facilitate movements through the screening process at U.S. airports and its territories. TSA shares this information with airports on the passenger's itinerary to coordinate efforts, to synchronize seamless transitions with the affected parties, and protect security operations.

Number of Respondents: 14,934.¹

¹ TSA updated the annual estimates for the respondents and burden hours since the submission of the 60-day notice, which indicated respondents of 5,600 and burden hours of 467.

Estimated Annual Burden Hours: An estimated 1,245 hours annually.

Dated: October 27, 2017.
Christina A. Walsh,
TSA Paperwork Reduction Act Officer, Office of Information Technology.

[FR Doc. 2017-23769 Filed 10-31-17; 8:45 am]

BILLING CODE 9110-05-P